DEPARTMENT OF TRANSPORTATION

Federal Aviation Administration

14 CFR Part 71

[Docket No. FAA-2005-21873; Airspace Docket No. 05-ACE-27]

Modification of Class D and Class E Airspace; Salina Municipal Airport, KS; Correction

AGENCY: Federal Aviation Administration (FAA), DOT.

ACTION: Direct final rule; request for comments; correction.

SUMMARY: This action corrects an omission in the legal description of Class E2 airspace in a direct final rule, request for comments correction that was published in the Federal Register on Thursday, October 13, 2005 (70 FR 59651).

DATES: This direct final rule is effective on 0901 UTC, October 27, 2005.

FOR FURTHER INFORMATION CONTACT: Brenda Mumper, Air Traffic Division, Airspace Branch, ACE-520A, DOT Regional Headquarters Building, Federal Aviation Administration, 901 Locust, Kansas City, MO 64106; telephone: (816) 329-2524.

SUPPLEMENTARY INFORMATION:

History

Federal Register document 2005-21873 published on Friday, July 29, 2005 (70 FR 43742), modified Class D and Class E Airspace at Salina Municipal Airport, KS. A subsequent correction to that document was published on Thursday, October 13, 2005 (70 FR 59651). That correction omitted the complete description of the Class E2 Surface Area. This action corrects that omission.

Accordingly, pursuant to the authority delegated to me, the omission in the legal description of airspace at Salina Municipal Airport, KS as published in the Federal Register Thursday, October 13, 2005 (70 FR 59651), is corrected as follows:

§ 71.1 [Amended]

2. The incorporation by reference in 14 CFR 71.1 of Federal Aviation Administration Order 7400.9N, dated September 1, 2005, and effective September 16, 2005, is amended as follows:

* * * * *

Paragraph 6002 Class E airspace designated as surface areas.

* * * * *

ACE KS E2 Salina, KS

Salina Municipal Airport, KS

(Lat. 38°47′27″ N., long. 97°39′08″ W.)

Within a 5.4-mile radius of Salina Municipal Airport. This Class E airspace area is effective during the specific dates and times established in advance of a Notice to Airmen. The effective date and time will thereafter be continuously published in the Airport/Facility Directory.

* * * * *

Issued in Kansas City, MO, on November 7, 2005.
Paul J. Sheridan,
Area Director, Western Flight Services Operations.

[FR Doc. 05-23018 Filed 11-21-05; 8:45 am]

BILLING CODE 4910-13-M